DEPARTMENT OF JUSTICE

Federal Bureau of Investigation

[OMB Number 1110-0011]

Violent Criminal Apprehension Program; Agency Information Collection Activities: Current Collection; Comment Requested

ACTION: 60-Day Notice of Information Collection Under Review Extension of a Currently Approved Collection for which is due to expire; 07/31/2007—VICAP Crime Analysis Report.

The Department of Justice, Federal Bureau of Investigation will be submitting the following information collection request for review and clearance in accordance with the Paperwork Reduction Act of 1995. The proposed information collection is published to obtain comments from the public and affected agencies. Comments are encouraged and will be accepted for “sixty days” until June 22, 2007. If you have comments, especially on the estimated public burden or associated response time, suggestions, or need a copy of the proposed information collection instrument with instructions or additional information, please contact Program Manager, Violent Criminal Apprehension Program, National Center for the Analysis of Violent Crime, FBI Academy, Quantico, Virginia 22135, telephone number (800) 634-4097.

Written comments and/or suggestions from the public and affected agencies concerning the proposed collection of information should address one or more of the following four points:

(1) Evaluate whether the proposed collection of information is necessary for the proper performance of the function of the agency, including whether the information will have the practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information:

(1) Type of Information Collection: Approval, without change, of a currently approved collection for which approval is due to expire 07/31/2007.

(2) Title of the Form/Collection: ViCAP Crime Analysis Report FD-676 (Rev. 7/23/2004).

(3) Agency form number, if any, and the applicable component of the Department sponsoring the collection: None. Federal Bureau of Investigation, United States Department of Justice.

(4) Affected public who will be asked or required to respond, as well as a brief abstract: Primary: State and local government law enforcement agencies charged with the responsibility for the investigation of violent crimes.

Others: None.

ViCAP is a nationwide data information center which collects, collates, and analyzes crimes of violence—specifically murder and sexual assaults. Case submissions are compared to all other cases in an attempt to identify similar cases which facilitates cooperation , and coordination between law enforcement agencies and provides support to identify, track and apprehend violent serial offenders.

(5) An estimate of the total number of respondents and the amount of time estimated for an average respondent to respond/reply: Of the possible 17,000 government entities that are eligible to apply it is estimated that only forty to sixty percent will actually submit responses to ViCAP. The time burden of the applicants is 60 minutes per application.

(6) An estimate of the total public burden (in hours) associated with the collection: The total annual hour burden to provide the information is estimated at 10,000 hours.

If additional information is required, contact: Lynn Bryant, Department Clearance Officer, United States Department of Justice, Justice Management Division, Policy and Planning Staff, Patrick Henry Building, 601 D Street, NW., Washington, DC 20530.

Dated: April 17, 2007.
Lynn Bryant,
Department Clearance Office, PRA, United States Department of Justice.

[FR Doc. E7-7646 Filed 4-20-07; 8:45 am]

BILLING CODE 4410-02-P